FEDERAL COMMUNICATIONS COMMISSION

Notice of Public Information Collection(s) Being Reviewed by the Federal Communications Commission

April 10, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 19, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0589.

Title: Remittance Advice and Continuation Sheet.

Form No.: FCC Form 159 and 159-C.

Type of Review: Extension of currently approved collection.

Respondents: Individual or households, business or other for-profit, not-for-profit institutions, state, local or tribal governments.

Number of Respondents: 635,738.

Estimated Time Per Response: .50 hours (30 minutes).

Frequency of Response: On occasion reporting requirement.

Total Annual Burden: 317,869 hours.

Total Annual Cost: N/A.

Needs and Uses: The FCC Forms 159 and 159-C are required for payment of regulatory fees, and for use when paying for multiple filings by a single payment instrument, or when paying by credit card. The forms require specific information to track payment history, and to facilitate the efficient and expeditious processing of collections by a lockbox bank. The forms were revised to include the FCC Registration Number (FRN) which is used for anyone who requires services from the Commission. These forms were approved by the Office of Management and Budget (OMB) under their emergency processing provisions on March 3, 2000. This notice is to obtain comment prior to obtaining the full three-year OMB approval.

OMB Control No.: 3060-0728.

Title: Supplemental Information Requesting FCC Registration Number for Debt Collection.

Form No.: N/A.

Type of Review: Extension of currently approved collection.

Respondents: Individual or households, business or other for-profit, not-for-profit institutions, state, local or tribal governments.

Number of Respondents: 1,532,064.

Estimated Time Per Response: .017 hours (1 minute).

Frequency of Response: On occasion reporting requirement.

Total Annual Burden: 26,045 hours.

Total Annual Cost: N/A.

Needs and Uses: The FCC Registration Number (FRN) is used by the FCC for the purpose of collecting and reporting on any delinquent amounts arising out of such person's relationship with the Federal Communications Commission (FCC). It is also used by any person doing business with the Commission that does not require a regulatory fee. This collection was approved by the Office of Management and Budget (OMB) under their emergency processing provisions on March 3, 2000. This notice is to obtain comment prior to obtaining the full three-year OMB approval.

OMB Control No.: 3060-0917.

Title: CORES Registration Form.

Form No.: FCC Form 160.

Type of Review: Extension of currently approved collection.

Respondents: Individual or households, business or other for-profit, not-for-profit institutions, state, local or tribal governments.

Number of Respondents: 500,000.

Estimated Time Per Response: .166 hours (10 minutes).

Frequency of Response: One time reporting requirement.

Total Annual Burden: 83,000 hours.

Total Annual Cost: N/A.

Needs and Uses: This form is used for a standard data repository for entity name, address, Tax Identification Number (TIN), telephone number, e-mail, fax, contact representative, and contact representative information. The Commission Registration System (CORES) will assign each entity doing business with the Commission a FCC Registration Number (FRN). The purpose of the FRN is for collecting and reporting on any delinquent amounts arising out of such person's relationship with the FCC. This form was approved by the Office of Management and Budget (OMB) under their emergency processing provisions on March 3, 2000. This notice is to obtain comment prior to obtaining the full three-year OMB approval.

OMB Control No.: 3060-0918.

Title: CORES Update/Change Form.

Form No.: FCC Form 161.

Type of Review: Extension of currently approved collection.

Respondents: Individual or households, business or other for-profit, not-for-profit institutions, state, local or tribal governments.

Number of Respondents: 250,000.

Estimated Time Per Response: .166 hours (10 minutes).

Frequency of Response: On occasion reporting requirement.

Total Annual Burden: 41,500 hours.

Total Annual Cost: N/A.

Needs and Uses: This form will be used to update/change entity name, address, telephone number, e-mail, fax, contact representative, and contact representative information that is in the CORES system. The Commission Registration System (CORES) will assign each entity doing business with the Commission a FCC Registration Number (FRN). The purpose of the FRN is for collecting and reporting on any delinquent amounts arising out of such person's relationship with the FCC. This form was approved by the Office of Management and Budget (OMB) under their emergency processing provisions on March 3, 2000. This notice is to obtain comment prior to obtaining the full three-year OMB approval.

OMB Control No.: 3060-0919.

Title: CORES Certification Form.

Form No.: FCC Form 162.

Type of Review: Extension of currently approved collection.

Respondents: Individual or households, business or other for-profit, not-for-profit institutions, state, local or tribal governments.

Number of Respondents: 50,000.

Estimated Time Per Response: .084 hours (5 minutes).

Frequency of Response: On occasion reporting requirement.

Total Annual Burden: 4,200 hours.

Total Annual Cost: N/A.

Needs and Uses: This form will be used during the transition period of the FCC Registration Number (FRN) to allow all Bureaus and Offices of the FCC to update all FCC forms requiring a block for FRN. The FRN will be used to collect and report any delinquent amounts arising out of such person's relationship with the Commission. This form was approved by the Office of Management and Budget (OMB) under their emergency processing provisions on March 3, 2000. This notice is to obtain comment prior to obtaining the full three-year OMB approval.

Federal Communications Commission.
Magalie Roman Salas,
Secretary.

[FR Doc. 00-9704 Filed 4-18-00; 8:45 am]

BILLING CODE 6712-01-U